DEPARTMENT OF AGRICULTURE

Forest Service

Ochoco National Forest, Lookout Mountain Ranger District; Oregon; Howard Elliot Johnson Fuels and Vegetation Management Project EIS

Correction

In notice document 2010-17803 beginning on page 43138 in the issue of Friday, July 23, 2010 make the following correction:

On page 43138, in the second column, under the ADDRESSES section, in the seventh and eighth lines, “comments-pacificnorthwestochoco@fs.fed.us” should read “comments-pacificnorthwest-ochoco@fs.fed.us”.

[FR Doc. C1-2010-17803 Filed 7-29-10; 8:45 am]

BILLING CODE 1505-01-D